FEDERAL COMMUNICATIONS COMMISSION

47 CFR Part 73

[DA 03-1477; MB Docket No. 02-255; RM-10524]

Radio Broadcasting Services; Cottage Grove, Depoe Bay, Garibaldi, Toledo, and Veneta, OR

AGENCY: Federal Communications Commission.

ACTION: Final rule.

SUMMARY: This document at the request of Alexandra Communications, Inc. licensee of Station KDEP(FM), Depoe Bay, Oregon, Signal Communications, Inc., licensee of Station KEUG, Inc., Cottage Grove, Oregon, and Agpal Broadcasting, Inc., licensee of Station KPPT(FM), Toledo, Oregon, substitutes channel 288A for channel 288C3 at Depoe Bay, Oregon, reallots channel 288A from Depoe Bay to Garibaldi, Oregon, and modifies the license of Station KDEP(FM) to specify the new community. It also substitutes channel 283C3 for Channel 288A at Cottage Grove, Oregon, reallots channel 288C3 to Veneta, Oregon, and modifies the license of station KEUG(FM) to specify the new community. Finally, it reallots channel 264C2 from Toledo, Oregon to Depoe Bay, and modifies the license of station KPPT(FM) to specify the new community. Channel 288A can be allotted at Garibaldi at a site 11 kilometers (6.8 miles) south of the community at coordinates NL 45-27-50 and WL 123-56-37. Channel 288C3 can be allotted at Veneta at a site 4.8 kilometers (3.0 miles) southwest of the community at coordinates NL 44-01-56 and WL 123-24-19. Channel 264C2 can be allotted at Depoe Bay at station KPPT(FM)'s current site 5.9 kilometers (3.7 miles) south of the community at coordinates NL 44-45-23 and WL 124-03-01.

DATES: Effective June 19, 2003.

ADDRESSES: Secretary, Federal Communications Commission, Washington, DC 20554.

FOR FURTHER INFORMATION CONTACT: Victoria M. McCauley, Media Bureau, (202) 418-2180.

SUPPLEMENTARY INFORMATION: This is a synopsis of the Commission's Report and Order, MB Docket No. 02-255, adopted April 30, 2003, and released May 5, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oregon, is amended by removing channel 288A and adding channel 264C2 at Depoe Bay, by removing channel 288A at Cottage Grove, by removing Toledo, channel 264C2, by adding Garibaldi, channel 288C3, and by adding Veneta, channel 288C3.

Federal Communications Commission.
John A. Karousos,
Assistant Chief, Audio Division, Media Bureau.

[FR Doc. 03-12792 Filed 5-21-03; 8:45 am]

BILLING CODE 6712-01-P